DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: Study of Fathers' Involvement in Permanency Planning and Child Welfare Casework—New—The Office of the Assistant Secretary for Planning and Evaluation proposes a study to assess how four states identify, locate, and involve non-custodial fathers in case decision making and permanency planning for children in the child welfare system. Respondents: State or local governments—Reporting Burden Information—State and Local Administrator Burden Information—Number of Respondents: 44; Average Burden per Response: 35 minutes; Total Administrator Burden: 26 hours—Caseworker Burden Information—Number of Respondents: 1,200; Average Burden per Interviewer Response: 55 minutes; Total Interviewer Burden: 1,100 hours—Administrative Staff Burden Information—Number of Respondents: 8; Average Burden per Response 90 minutes; Total Administrative Burden: 12 hours—Total Burden 1,138 hours.

Send comments via e-mail to Geerie.Jones@HHS.gov or mail to OS Reports Clearance Office, Room 503H, Huber H. Humphrey Building, 200 Independence Avenue, SW., Washington, DC 20201. Comments should be received within 60 days of this notice.

Dated: September 4, 2002.
Kerry Weens,
Deputy Assistant Secretary, Budget.

[FR Doc. 02-23108 Filed 9-11-02; 8:45 am]

BILLING CODE 4154-05-M